DEPARTMENT OF THE INTERIOR

Fish and Wildlife Service

Notice of Availability of the Final Comprehensive Conservation Plan and Finding of No Significant Impact for Grand Cote National Wildlife Refuge in Avoyelles Parish, Louisiana

AGENCY: Fish and Wildlife Service, Interior.

ACTION: Notice of availability.

SUMMARY: The Fish and Wildlife Service announces that a Final Comprehensive Conservation Plan and Finding of No Significant Impact for Grand Cote National Wildlife Refuge are available for distribution. The plan was prepared pursuant to the National Wildlife Refuge System Improvement Act of 1997, and in accordance with the National Environmental Policy Act of 1969, and describes how the refuge will be managed for the next 15 years. The compatibility determinations for hunting, fishing, wildlife observation and photography, environmental education and interpretation, all-terrain vehicle use, cooperative farming, and resource research studies, are also available within the plan.

ADDRESSES: A copy of the plan may be obtained by writing to the Grand Cote National Wildlife Refuge, 401 Island Road, Marksville, Louisiana 71351. The plan may also be accessed and downloaded from the Service's Website http://southeast.fws.gov/planning/.

SUPPLEMENTARY INFORMATION: Grande Cote National Wildlife Refuge is located about 5 miles west of the city of Marksville, Louisiana (population 6,087), and 20 miles southeast of Alexandria, Louisiana (population 46,000), south of Highway 1, west of Highway 115, and north and east of Highway 114. The refuge is part of the central Louisiana National wildlife Refuge Complex, which includes Grand Cote, Lake Ophelia, and Cat Island National Wildlife Refuges and several fee and easement Farm Service Agency sites. The refuge covers 6,075 acres but could reach 13,000 acres if all land within the approved acquisition boundary is purchases. The refuge was established in 1989 to provide wintering habitat for mallards, pintails, blue-winged teal, and wood ducks, as well as production habitat for wood ducks to meet the goals of the North American Waterfowl Management Plan. The refuge consists of a complex of bottomland hardwood forests, agricultural lands, moist-soil areas, and direct access roads and trails. annually, more than 2,000 visitors participate in refuge activities.

The availability of the Draft Comprehensive Conservation Plan and Environmental Assessment for a 45-day public review and comment period was announced in the Federal Register on June 16, 2006 (71 FR 34955). The draft plan and environmental assessment identified and evaluated three alternatives for managing the refuge over the next 15 years. alternative 1 represents o change from current management of the refuge. Under this alternative, 6,075 acres of refuge lands would continue to be protected, maintained, restored, and enhanced for resident wildlife, waterfowl, and threatened and endangered species. Under Alternative 2, the “preferred alternative,” more staff, equipment, and facilities would be added in order to maximize management and restoration of the refuge's wetland and moist-soil habitats and hydrology in support of migratory and resident waterfowl and other wildlife, especially white-tailed deer and woodcock. Alternative 3 would add more staff, equipment, and facilities in order to maximize bottomland hardwood forest restoration in support of migratory birds and other wildlife.

Based on the environmental assessment and the comments received, the Servcie adopted Alternative 2 as its preferred alternative. This alternative was considered to be the most effective for meeting the purposes of the refuge by conserving, restoring, and managing the refuge's wetlands and moist-soil habitats and hydrology. Alternative 2 best achieves national, ecosystem, and refuge-specific goals and objectives and positively addresses significant issues and concerns expressed by the public.

FOR FURTHER INFORMATION CONTAT: Tina Chouinard, Natural Resource Planner, Central Louisiana National Wildlife Refuge Complex, telephone: 318/253-4238; fax: 318/253-7139; e-mail: tina_chouinard@fws.gov; or by writing to the Natural Resource Planner at the address in the ADDRESSESsection.

AUTHORITY: This notice is published under the authority of the National Wildlife Refuge System Improvement Act of 1997, Public Law 105-57.

Dated: September 12, 2006.
Cynthia K. Dohner,
Acting Regional Director.

Editorial Note: This document was received at the Office of the Federal Register on December 21, 2006.

[FR Doc. 06-9871 Filed 12-26-05; 8:45 am]

BILLING CODE 4310-55-M